DEPARTMENT OF TRANSPORTATION

Federal Highway Administration

Notice To Rescind a Notice of Intent To Prepare an Environmental Impact Statement (EIS), Ada County, ID

AGENCY: Federal Highway Administration, DOT.

ACTION: Rescind notice of intent to prepare an environmental impact statement (EIS).

SUMMARY: The Federal Highway Administration (FHWA) is issuing this notice to advise the public that the Notice of Intent (NOI) published on January 13, 2004, at 69 FR 2040, to prepare an Environmental Impact Statement (EIS) for a proposed highway project in Ada County, Idaho is being rescinded.

FOR FURTHER INFORMATION CONTACT: Mr. Peter Hartman, Division Administrator, Federal Highway Administration, 3050 Lakeharbor Lane, Suite 126, Boise, ID 83703, Telephone: (208) 334-9180, ext. 116, or Mr. Wade Christiansen, District 3 Project Manager, Idaho Transportation Department, District 3, P.O. Box 8028, Boise, ID 83714-8028, Telephone: (208) 334-8300, or Lisa Applebee, Three Cities River Crossing Project Manager, Ada County Highway District, 318 East 37th Street, Garden City, ID 83714, telephone (208) 387-6100.

SUPPLEMENTARY INFORMATION:

Background

The FHWA, in cooperation with Ada County Highway District (ACHD) and the Idaho Transportation Department (ITD), are rescinding the NOI to prepare an EIS that identifies an alignment for a transportation corridor that would connect State Highway 44/55 on the north with US 20/26 on the south. The proposed highway alternatives vary from approximately 1.5 to 3.0 miles in length and would provide four to six travel lanes. This alignment includes a new bridge across the Boise River. The study area is located in the northwestern part of the Boise Metropolitan Area, and borders or passes through portions of the cities of Boise, Eagle and Garden City as well as Ada County.

The NOI is being rescinded because the project scope has been changed and potential impacts from the new concept are not significant and do not warrant an EIS. Recommendations for improvements along this corridor are identified in the regional long-range transportation plan, “Communities in Motion,” prepared by the Boise-Nampa Metropolitan Planning Organization, Community Planning Association of Southwest Idaho (COMPASS) as revised and adopted by the COMPASS board in September 2010. The project was initiated with several concepts derived from previous planning efforts. Then a wide range of route options were initially developed for evaluation in the Corridor Preservation Study.

Public input, agency, and stakeholder coordination was conducted to solicit comments on the proposed action purpose and need, route options being considered and the alternative screening process. Public meetings were held on February 9, 2004, February 12, 2004, April 21, 2004 November 29, 2005, and December 1, 2005.

Six alternatives were advanced to the Draft EIS (DEIS) where more in-depth analysis was completed.

The DEIS was released for public review and comment on January 17, 2008. A Notice of Availability (NOA) was published in the Federal Register on January 18, 2008, at 73 FR 3464. A public hearing was held on February 13, 2008.

After the public hearing and comment period, ACHD reconsidered the Preferred Alternative on July 21, 2010, and recommended a No-Build Alternative for the project. The basis for this decision centered on consideration of environmental and transportation planning factors in combination with the technical comments received on the DEIS. In cooperation with the FHWA and ITD, the ACHD had determined that improvements to existing roadways utilizing operational improvements that include intelligent transportation systems (ITS) technology such as closed caption television cameras, speed detectors, and other hardware and software improvements would meet project goals without exceeding available revenue. This alternative is anticipated to have no adverse impact on the human and natural environment.

To ensure that the full range of issues related to this proposed action and all relevant issues are identified, comments and suggestions are invited from all interested parties regarding this action to rescind the NOI. Comments or questions concerning this proposed action should be directed to the ACHD at the addresses provided above. Comments must be received by September 28, 2011.

Issued on: August 23, 2011.
Ghassan G. Shanine,
Assistant Division Administrator, FHWA—Idaho Division.

[FR Doc. 2011-21968 Filed 8-26-11; 8:45 am]

BILLING CODE 4910-22-P